DEPARTMENT OF TRANSPORTATION

Maritime Administration

[USCG-2007-28532]

Port Dolphin Energy LLC, Port Dolphin Liquefied Natural Gas Deepwater Port License Application

AGENCY: Maritime Administration, DOT.

ACTION: Notice of Availability of Record of Decision.

SUMMARY: The Maritime Administration announces the availability of the Record of Decision for the Port Dolphin Energy LLC (Port Dolphin Energy) Deepwater Port License Application. On October 26, 2009, the Acting Maritime Administrator, David T. Matsuda, issued the Record of Decision “approving with conditions” Port Dolphin Energy's application to own, construct, and operate a liquefied natural gas (LNG) deepwater port 28 miles southwest of Tampa Bay, Florida. Issuance of this Record of Decision completes the application review and license approval process, mandated by the Deepwater Port Act of 1974, as amended (the Act).

ADDRESSES: Copies of the Record of Decision for the Port Dolphin Energy LNG Deepwater Port License Application are available on request from the Docket Management Facility, M-30, U.S. Department of Transportation, West Building, Ground Floor, Rm. W12-140, 1200 New Jersey Avenue, SE., Washington, DC 20590, or via the Internet at http://www.regulations.gov (Document ID: USCG-2007-28532-0240).

FOR FURTHER INFORMATION CONTACT: Yvette Fields, Director, Office of Deepwater Ports and Offshore Activities, Maritime Administration, telephone: 202-366-0926, e-mail: Yvette.Fields@dot.gov or Patrick Marchman, Maritime Administration, telephone: 202-366-7206, e-mail: Patrick.Marchman@dot.gov. The full text of the Record of Decision (Document ID: USCG-2007-28532-0240) is available as a part of the public docket for the complete Port Dolphin Energy Deepwater Port License Application (Docket Number USCG-2007-28532), maintained by the U.S. Department of Transportation Docket Management Facility. If you have questions regarding the docket, please contact Renee V. Wright, Program Manager, Docket Operations, telephone: 202-493-0402.

SUPPLEMENTARY INFORMATION:

Application Review Process

On March 29, 2007, Port Dolphin Energy LLC, a limited liability company organized and existing under the laws of the State of Delaware and an ultimate subsidiary of Leif Hoegh & Company Limited, submitted to the Maritime Administration and the U.S. Coast Guard (USCG), an application for approval of a license to own, construct, operate, and ultimately decommission a deepwater port, known as Port Dolphin, approximately 28 miles southwest of Tampa Bay, Florida, for the purpose of importing Liquefied Natural Gas (LNG) into the United States. On June 15, 2007, Port Dolphin Energy's application was deemed complete by the Maritime Administration and the USCG. On June 25, 2007, the Maritime Administration and USCG published a notice in the Federal Register [72 FR 34741-34742] to announce the availability of the application for public inspection and request public comments on the proposed project and its potential impacts on the environment.

Pursuant to the statutory requirements of the Act, the Maritime Administration and the USCG conducted an environmental review of the Port Dolphin project and prepared an environmental impact statement in accordance with procedures stipulated under the National Environmental Policy Act (NEPA). The Federal environmental review process was conducted in close coordination with cooperating Federal and Florida State agencies, integrating the environmental values and concerns expressed by local communities. Additional information regarding the application and environmental review process for the Port Dolphin project can be found on the public docket at http://www.regulations.gov (Document ID: USCG-2007-28532).

Decision Process

Provisions of the Act require the Maritime Administrator to render his decision on a deepwater port license application within 90 days from the date of the final public hearing. The final public hearing for the Port Dolphin project was held on July 28, 2009. In rendering a decision, the Maritime Administrator must either: (1) Approve the application as it is proposed, (2) approve the application “subject to certain conditions”, or (3) deny the application. This Record of Decision, approves the Port Dolphin Energy Deepwater Port License Application, “subject to certain conditions,” which have been designed to ensure that Port Dolphin Energy utilizes the best available technology in the operation of its port, exercises care to preserve and enhance the environment, and protect Florida's coastal communities and natural resources. Further, the Record of Decision describes the framework by which the Maritime Administrator must base his decision as defined by the nine approval criteria prescribed by the Act. These nine approval criteria ensure: (1) Financial responsibility; (2) compliance with all applicable laws, regulations and license conditions; (3) national interest; (4) international navigation, safety, and use of the high seas; (5) protection and enhancement of the environment; (6) advice of the Administrator of the Environmental Protection Agency; (7) consultation with the Secretaries of State, Defense, and Army, (8) approval of the Governor of the adjacent coastal State, in this case the Governor of Florida, and (9) consistency with the Coastal Zone Management Act.

The Port Dolphin Record of Decision provides an overview of the Federal environmental review process and describes the comprehensive consultation and technical review of the application conducted by the Maritime Administration and USCG, in consultation with the National Oceanic Atmospheric Administration (NOAA), the Environmental Protection Agency, the State of Florida, and other cooperating Federal and State agencies. During the decision-making process, the Acting Maritime Administrator gave careful consideration to the specific concerns expressed by members of the local Florida coastal communities, such as Longboat Key and Manatee County, regarding the potential impacts on local sand resources. Reasonable efforts were made by the Federal Government, the State of Florida, local communities, and Port Dolphin Energy to bring this matter to a satisfactory resolution. Conditions recommended by cooperating Federal and State agencies, including the specific conditions of approval required by the Governor of Florida, as outlined in his decision letter of September 11, 2009 and in a subsequent Memorandum of Agreement established between the State of Florida and Port Dolphin Energy, have been incorporated into this Record of Decision as conditions of approval. These conditions, which allow for removal of sand prior to the pipeline installation and sharing of costs, will become enforceable and binding under the official deepwater port License upon issuance. The Maritime Administration projects that the official Port Dolphin Energy Deepwater Port License will be issued in early 2010. The full text of the Record of Decision can be viewed at http://www.regulations.gov (Document ID: USCG-2007-28532-0240).

Dated: November 16, 2009.
By order of the Maritime Administrator.
Christine Gurland,
Secretary, Maritime Administration.

[FR Doc. E9-28326 Filed 11-24-09; 8:45 am]

BILLING CODE 4910-81-P